DEPARTMENT OF STATE

[Public Notice: 6587]

Notice of Information Collection Under Emergency Review: DS-7655, Iraqi Citizens and Nationals Employed by Federal Contractors, Grantees, and Cooperative Agreement Partners, OMB Control Number 1405-xxxx

AGENCY: Department of State.

ACTION: Notice of request for emergency OMB approval.

SUMMARY: The Department of State has submitted the following information collection request to the Office of Management and Budget (OMB) for review and approval in accordance with the emergency review procedures of the Paperwork Reduction Act of 1995.

• Title of Information Collection: Iraqi Citizens and Nationals Employed by Federal Contractors, Grantees, and Cooperative Agreement Partners.

• OMB Control Number: OMB Control Number: None.

• Type of Request: Emergency Review.

• Originating Office: A/LM.

• Form Number: DS-7655.

• Respondents: Federal contractors, grantees, and cooperative agreement partners of the Department of State.

• Estimated Number of Respondents: 50.

• Estimated Number of Responses: 200.

• Average Hours per Response: .5.

• Total Estimated Burden: 100 hours.

• Frequency: On occasion.

• Obligation to respond: Mandatory.

The proposed information collection is published to obtain comments from the public and affected agencies. Emergency review and approval of this collection has been requested from OMB by May 15, 2009. If granted, the emergency approval is only valid for 180 days. Comments should be directed to the Department of State Desk Officer in the Office of Information and Regulatory Affairs at the Office of Management and Budget (OMB), Washington, DC 20503. Fax number 202-395-6974.

During the first 60 days of the emergency approval period, a regular review of this information collection is also being undertaken. The agency requests written comments and suggestions from the public and affected agencies concerning the proposed collection of information. Comments will be accepted until 60 days from the date that this notice is published in the Federal Register. You may submit comments by any of the following methods:

• E-mail: lowerrs@state.gov.

• Mail (paper, disk, or CD-ROM submissions): Rob Lower, Department of State, A/LM Room 525, P.O. Box 9115 Rosslyn Station, Arlington, VA 22219.

• Fax: 703-875-4731.

You must include the DS form number (if applicable), information collection title, and OMB control number in any correspondence.

FOR FURTHER INFORMATION CONTACT: Direct requests for additional information regarding the collection listed in this notice, including requests for copies of the proposed information collection and supporting documents, to Rob Lower, Department of State, A/LM Room 525, P.O. Box 9115 Rosslyn Station, Arlington, VA 22219, who may be reached at 703-875-5822 or at lowerrs@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of Proposed Collection

The Refugee Crisis in Iraq Act of 2007 was included in the National Defense Authorization Act of 2008 which became Public Law 110-181 on 28 January 2008. Section 1248(c) of this Act requires the Secretary of State to request from each Department of State prime contractor, grantee, or cooperative agreement partner that has performed work in Iraq since March 20, 2003, under a contract, grant, or cooperative agreement with the Department that is valued in excess of $25,000, information that can be used to verify the employment of Iraqi citizens and nationals by such contractor, grantee or cooperative agreement partner. To the extent possible, biographical information, to include employee name, date(s) of employment, biometric, and other data must be collected and used to verify employment for the processing and adjudication of refugee, asylum, special immigrant visa, and other immigration claims and applications.

Methodology

The Department of State will collect the information via electronic submission.

Additional Information

This information collection will be used to fulfill the requirements under Section 1248(c) of the National Defense Authorization Act of 2008 (Pub. L. 110-181).

Dated: April 13, 2009.
William H. Moser,
Deputy Assistant Secretary, Office of Logistics Management, Bureau of Administration, Department of State.

[FR Doc. E9-9023 Filed 4-17-09; 8:45 am]

BILLING CODE 4710-24-P